DEPARTMENT OF THE TREASURY

Submission for OMB Review; Comment Request

June 12, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 20, 2007 to be assured of consideration.

Financial Management Service (FMS)

OMB Number: 1510-0012.

Type of Review: Revision.

Title: Annual Financial Statements of Surety Companies—Schedule F.

Form: 6314.

Description: Surety and Insurance Companies report information used to compute the amount of unauthorized reinsurance to determine Treasury Certified Companies' underwriting limitations which are published in Treasury Circular 570.

Respondents: Businesses or other for-profit institutions.

Estimated Total Burden Hours: 14,373 hours.

Clearance Officer: Jiovannah Diggs (202) 874-7662, Financial Management Service, Room 135, 3700 East West Highway, Hyattsville, MD 20782.

OMB Reviewer: Alexander T. Hunt (202) 395-7316, Office of Management and Budget, Room 10235, New Executive Office Building, Washington, DC 20503.

Robert B. Dahl,
Treasury, PRA Clearance Officer.

[FR Doc. E7-11693 Filed 6-19-07; 8:45 am]

BILLING CODE 4810-35-P